DEPARTMENT OF STATE

[Public Notice 6569]

Bureau of Educational and Cultural Affairs (ECA) Request for Grant Proposals: 2009 Fellowships in the Arts: Documentary Filmmaking and Iraq Museum Residencies

Announcement Type: New Cooperative Agreements.

Funding Opportunity Number: ECA/PE/C/CU-09-49.

Catalog of Federal Domestic Assistance Number: 00.000.

Key Dates:

Application Deadline: May 12, 2009.

Executive Summary: The Cultural Programs Division of the Office of Citizen Exchanges in the Bureau of Educational and Cultural Affairs announces an open competition for two Cooperative Agreements to support programs for short residency and training programs in the United States for emerging and mid-career documentary filmmakers from around the world and museum specialists from Iraq. The Bureau anticipates that approximately $900,000 will be available to support this competition. Grantees will design, develop, and implement 30-60 day programs in the United States for the selected participants, individually or in small groups. Each program should be built around a residency experience, which may be supplemented by other program elements designed to enhance and expand upon the activities of the residency.

Proposed projects should transform institutional and individual understanding of key international, arts and/or cultural issues, foster dialogue, and develop professional expertise and leadership capacity. Projects should be structured to encourage American professionals and their international counterparts to develop a common dialogue for dealing with shared challenges and concerns.

The Bureau is interested in receiving proposals from organizations with a strong interest, thematic expertise, institutional commitment, and a successful track-record in conducting international exchanges and in the specific thematic field their proposal addresses. Organizations that have the expertise, interest, and institutional commitment but lack the required experience of conducting exchanges may wish to consider developing proposals based on consortia type relationships with more experienced, eligible organizations. Please note that for these proposals, the role of each organization must be clearly defined and any sub-granting agreements must be included in the proposal submission.

I. Funding Opportunity Description

Authority:

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Purpose: This competition is based on the premise that people-to-people exchanges encourage and strengthen understanding of democratic values and nurture the cultural and social growth of societies. Under this premise, the Bureau offers a new funding opportunity for organizations to develop short residency and training programs in the United States for emerging and mid-career documentary filmmakers from around the world and museum professionals from Iraq. Proposals that show strong prospects for enhancing existing long-term collaborations or establishing new collaborative efforts among participating organizations will be deemed more competitive under the program planning criterion listed below.

The two project themes for which the Bureau will accept proposals under this competition are as follows: (1) Documentary Filmmaker Fellowship Program; and (2) Iraq Museum Professional Residency Program.

Under this program, U.S. non-profit organizations will conduct projects in cooperation with the Bureau of Educational and Cultural Affairs, Cultural Programs Division on the themes listed above, with their counterparts abroad for each project theme. No guarantee is made or implied that cooperative agreements will be awarded in both themes.

In addition to describing extensive expertise in the specific thematic area, proposals should reflect a practical understanding of global issues, and demonstrate sensitivity to cultural, political, economic, and social differences in the specific world regions in which the exchange project will occur. Special attention should be given to describing the applicant organization's experience with planning and implementing people-to-people international cultural exchange projects. Applicants should outline their project team's capacity for successfully implementing projects of this nature, provide a detailed sample program and time line to illustrate planning capacity and ability to achieve program objectives. Applicants must identify all U.S. and foreign partner organizations and/or venues with whom they are proposing to collaborate, and describe previous cooperative projects in the section on “Institutional Capacity.” For this competition, applicants must include in their proposal supporting materials or documentation that demonstrates a minimum of five years experience in conducting international arts exchange programs and four years experience in conducting exchange programs with the U.S. Government. Proposals must include references with name and contact information for other assistance awards the applicant has received in the event the Bureau chooses to be in touch directly.

Proposals should acknowledge U.S. Embassy involvement in the participant nomination process and the Cultural Programs Division's (ECA/PE/C/CU) involvement in the final selection of all participants.

For the 2009 Fellowships in the Arts, U.S. non-profit organizations may submit proposals for either one of the two—but not both—project themes and countries of exchange that are listed below. Please note that for additional information about this competition, a contact program officer at ECA is listed under each of the following two themes:

1. Documentary Filmmaker Fellowship Program (not to exceed $400,000):

Residency and Training cultural exchange for foreign emerging documentary filmmakers from countries to be determined by ECA/PE/C/CU.

Program Contact: Susan Cohen, tel: (202) 203-7509, e-mail: CohenSL@state.gov with copy to: ProctorLF@state.gov.

Project Goals:

ECA seeks programs that will provide participants with in-depth exposure to their professional discipline as practiced in the U.S.; outreach to U.S. colleagues and publics, particularly youth, and; opportunities for creation and presentation of their work. ECA will select innovative programs for emerging or mid-career professionals in documentary filmmaking that will introduce them to the diversity of cultural expression in the United States; provide them with direct, hands-on experience with new techniques and technology in filmmaking; offer opportunities for interaction with U.S. filmmakers and other arts professionals; assist them with the development of their careers; familiarize them with the business aspects of documentary filmmaking, including measures to protect artists' rights, and; offer them opportunities to share their work with U.S. audiences. The Bureau is particularly interested in program components that will provide linkages between participants and public school students in the U.S.

Proposals should provide programs for a group of twenty (20) participants. The proposal should describe the proposed program, explain how it reflects the diversity of U.S. culture, show how it responds to the needs and interests of artists coming from a variety of countries and backgrounds, and demonstrate how it responds to ECA's goals.

Programs may be 30-60 days in length. Applicants should explain their rationale for the length of the program proposed. Programs should be centered on documentary filmmaking, should be customized to meet the needs and interests of the participants, and include the foreign program participants as peers of U.S. counterparts. Applicants should include other activities that will enhance the residency experience, including site visits; meetings with U.S. film directors, cinematographers, and other arts professionals; public presentations of program participants' work, and; workshops for U.S. youth and educators. All programs must include the opportunity for participants to create works and to share their creation with U.S. colleagues and the public, particularly youth. Program activities complementary to the residency may take place in one or more locations in the U.S. This project does not include program activities outside the U.S. Participation in university courses for credit may not be included in proposals and participation in conferences will be considered only if it is clearly relevant to the professional background of the participants and represents only a small part of the overall program. Programs that exclusively involve participation in `off-the-shelf' summer institutes or other pre-structured training situations are not acceptable and will not be funded.

The Bureau encourages public presentation of participants' documentary films and recognizes its value to mutual understanding. Proposals should therefore include opportunities for presentations and for public programs, such as panel discussions, and other avenues for program participants to discuss their work with U.S. audiences. Programming with U.S. public schools and/or other educational institutions is strongly encouraged.

Proposals should include a sample program with day-by-day schedules. An orientation session in Washington, D.C. must be included that provides general information about U.S. society and an opportunity for ECA to meet and brief newly arrived participants. A post-program event, at a site to be determined by grantee, that provides the opportunity for presentation of newly created documentaries and a de-briefing session must also be included.

Participants:

Program participants will be emerging or mid-career professional documentary filmmakers, generally aged 20-40 years from around the world. They should have also demonstrated a commitment to their profession as well as to positively influencing their communities, particularly minorities and youth. In general, participants will not have extensive or recent experience in the U.S. ECA intends that the program be highly competitive and that a final selection of nominations will result in a diverse mix of participants from a variety of countries.

Applicants must state that they are prepared to work with program participants from any country or region determined by ECA. ECA will determine the priority or target countries for recruitment of program participants. It is unlikely that the Bureau will include countries whose artistic film community has substantial and ongoing contact with its counterpart in the U.S., such as Western Europe. Potential program participants must have a working knowledge of English sufficient to carry out the residency program without interpretation.

Participant Selection:

Foreign participants will be nominated in two ways: By the Department of State through a call for nominations from U.S. Embassies and posts, and; by the grantee organization, which will utilize its own network of contacts overseas (including film industry, film associations) and its own resources (such as U.S. filmmakers) to make a concurrent call for nominations. All participant applications will be reviewed by a panel organized and convoked by the grantee organization and consisting of artists and art professionals, and an ECA representative as an observer. Procedures for the nomination, selection of participants, and panel members must be detailed in the proposal. ECA will review and approve nominees prior to and following panel consideration.

Successful programs will achieve the following:

—Enhance participant professional capacity.

—Provide participants with an appreciation and a greater understanding and respect for diverse cultures—focusing specifically on U.S. society and culture. Provide them a greater understanding of the similarities, including shared values between the U.S. and the foreign countries.

—Provide participants an understanding of how international cultural exchange and networking can positively influence their lives and those of others and provide them the tools to accomplish successful networking.

—Provide a platform for dialogue and development of enduring professional ties between U.S. contacts and foreign participants, as well as among foreign participants.

—Enhance participant leadership capacity and their ability to initiate and support follow-on activities in their home countries intended.

Successful applicants must fully demonstrate a capacity to achieve the following:

(1) Work jointly with foreign and U.S. partners and/or contacts to design, develop, and execute a multi-regional documentary film residency program of professional development, artistic enrichment and cross-cultural dialogue that achieves the goals described above.

(2) Identify, screen, recruit, and select twenty (20) foreign documentary filmmakers from specified countries fitting the above description.

(3) Provide a sound infrastructure for coordination and implementation of the entire program. This refers to both substantive and administrative components of the program, including but not limited to: Fellowship and workshop content and organization, travel, housing, orientation, and visa applications. Successful applicants will also have U.S. partners able and willing to provide cost-sharing (including in-kind) in order to help cover program costs.

(4) Design, build, and implement intensive 30-60 day professional residency filmmaking program in the U.S. that will achieve program objectives.

(5) Develop enhancement activities and opportunities that reinforce program goals after the participants return to their home countries. Follow-on components could be public presentations of films by program participants. Applicants are directed to review the PSI for additional information on this criterion.

(6) Provide to ECA/PE/C/CU at the conclusion of the program a Web-ready package that will showcase participants' involvement in the program as well as feature the artistic product of their residency.

ECA expects that this project will lead to greater artist-to-artist and institution-to-institution contact as well as collaboration across international borders. Proposals should describe mechanisms for measuring, supporting, and enhancing this cooperation during the grant period and beyond.

In the cooperative agreement, ECA/PE/C/CU is substantially involved in program activities above and beyond routine monitoring. ECA/PE/C/CU responsibilities for this program are as follows:

■ ECA/PE/C/CU will make a final decision regarding countries for recruitment of program participants.

■ Embassies will be one channel for nominations of program participants. Grantee may propose names for consideration by Embassy Public Affairs Sections and will have the opportunity to review the biographic information submitted and advise if a specific nominee does not appear to have attained an appropriate professional level of expertise.

■ ECA/PE/C/CU will participate in selection of final participants for the program.

■ ECA/PE/C/CU will review the proposed residency, orientation and de-briefing program schedules and provide final approval.

■ ECA/PE/C/CU will issue DS-2019s needed for travel to the U.S. under the J visa program.

■ Following return to their home countries, Embassies will showcase the participating filmmakers and their work developed during or resulting from their experience in the U.S.

2. Iraq Museum Professional Residency Program (not to exceed $500,000):

Residency and Training cultural exchange for Iraqi museum professionals.

Program Contact: Alan Cross, tel: (202) 203-7497, e-mail: CrossA@state.gov with copy to: BrooksMM@state.gov.

Project Description:

ECA seeks an organization to design and implement residency programs that will provide museum professionals from Iraq with in-depth exposure to their professional discipline as practiced in the U.S.; outreach to U.S. colleagues and publics, and; opportunities for increasing mutual understanding between the people of Iraq and the United States. This residency program is an integral component of the `Iraq Cultural Heritage Project' (ICHP), which constitutes ECA's major commitment to that country's cultural heritage. Over a period of three years, approximately 50 emerging and mid-career Iraqi museum professionals will participate in approximately 50 residencies in the United States designed to increase their expertise in collections management, cultural heritage conservation, digital collections/tools, museum administration, community engagement, and institutional capacity building. The programs will also be expected to introduce them to the diversity of cultural expression in the United States; provide them with direct, hands-on experience with new techniques and technology in their field; offer them opportunities for interaction with U.S. museum professionals; familiarize them with related fields, including private/public partnerships, volunteerism, and new technologies, and; offer them opportunities to share their work with U.S. audiences.

Programs will range from 30-60 days in length and will be custom designed by the grantee organization based on input from ECA and/or ECA partners. Residency programs will generally be sought for individual museum professionals, but could also be requested for a defined small group of museum professionals.

Proposals should include sample programs with day-by-day schedules for a 30-day residency. An orientation session must be included that will provide participants with general information about the United States, its form of government, society and culture. A post-program session in Washington, DC must also be included, providing the possibility for de-briefing. When possible and practicable, orientation and de-briefing sessions should take place in groups in order to make best use of resources.

The project will entail working with ECA and/or its designated partners in planning and scheduling all events, including:

■ Arranging all air travel (domestic and international) and local transportation;

■ Oversight of arrivals and departures (international and/or domestic);

■ Preparation of briefing materials for participants;

■ Designing and planning residencies as well as additional activities;

■ Coordinating escorts as necessary;

■ Arranging payment for all costs related to the residency program, including those incurred by residency hosts (museums or other identified civic spaces), per diem and lodging for participants; educational materials, equipments or supplies; etc.

Program activities complementary to the residency may take place in one or more locations in the U.S. This project does not include program activities outside the U.S. Participation in university courses for credit may not be included in proposals and participation in conferences will be considered only if it is clearly relevant to the professional background of the participants and represents only a small part of the overall program. Programs that exclusively involve participation in `off-the-shelf' summer institutes or other pre-structured training situations are not acceptable and will not be funded.

Any key U.S. partner institutions should be identified and letters of support should be provided in the proposal.

Participants:

Program participants will be emerging and mid-career museum professionals, generally aged 20-40 years from Iraq. They will have various levels of experience in the museum field and, in general, will not have extensive experience in the United States.

Potential program participants must have a working knowledge of English sufficient to carry out the residency program without interpretation.

Participant Nomination and Selection:

Foreign participants will be nominated through different channels, and will include but are not limited to: Successful participants from other ICHP projects, nominees from the U.S. Embassy in Baghdad, and nominees from other USG and Iraqi partners. Grantee may also propose names for consideration by the Public Affairs Section of the U.S. Embassy in Baghdad. Final selection of participants will be made by ECA.

Successful programs will achieve the following:

—Enhance participant professional capacity.

—Provide a platform for dialogue and development of enduring professional ties between U.S. contacts and foreign participants, as well as among foreign participants.

—Enhance participant leadership capacity and their ability to initiate and support follow-on activities in their home countries intended.

—Provide participants with an appreciation and a greater understanding and respect for diverse cultures—focusing specifically on U.S. society and culture. Provide them a greater understanding of the similarities, including shared values between the U.S. and Iraq.

—Provide participants an understanding of how international cultural exchange and networking can positively influence their lives and those of others and provide them the tools to accomplish successful networking.

Successful applicants must fully demonstrate a capacity to achieve the following:

(1) Work jointly with foreign and U.S. partners and/or contacts to design, develop, and execute a variety of museum residency programs for professional development, artistic enrichment and cross-cultural dialogue that achieve the goals described above.

(2) Provide a sound infrastructure for coordination and implementation of the entire program. This refers to both substantive and administrative components of the program, including but not limited to: Fellowship and workshops content and organization, international and domestic travel, housing, orientation, and visa applications. Successful applicants will also have U.S. partners able and willing to provide cost-sharing (including in-kind) in order to help cover program costs.

(3) Design, build, and implement intensive 30-60 day museum residency programs in the U.S. that will achieve program objectives.

(4) Develop enhancement activities and opportunities that reinforce program goals after the participants return to their home countries. Follow-on components could be public presentations by program participants. Applicants are encouraged to review the PSI for additional information regarding this criterion.

(5) Show understanding of the challenges of collaboration in the design and implementation of the residency programs and propose means for addressing them.

ECA expects that this project will lead to greater person-to-person and institution-to-institution contact as well as collaboration across international borders. Proposals should describe mechanisms for measuring, supporting and enhancing this cooperation during the grant period and beyond.

In the cooperative agreement, ECA/PE/C/CU is substantially involved in program activities above and beyond routine monitoring. ECA/PE/C/CU responsibilities for this program are as follows:

■ ECA/PE/C/CU will make the final determination of program participants. Participants will be nominated as stated previously.

■ ECA/PE/C/CU will review the proposed residencies, orientation and de-briefing program schedules, and provide final approval.

■ Where applicable, ECA/PE/C/CU will issue DS-2019s needed for travel to the U.S. under the J visa program.

II. Award Information

Type of Award: Cooperative Agreements. ECA's level of involvement in this program is listed under number I above.

Fiscal Year Funds: FY-2009.

Approximate Total Funding: $900,000.

Approximate Number of Awards: 2.

Approximate Average Award:

Project 1: $400,000.

Project 2: $500,000.

Anticipated Award Date: September 1, 2009.

Anticipated Project Completion Dates: December 30, 2010 for documentary residency; December 30, 2012 for Iraq museum residency.

III. Eligibility Information

III.1. Eligible applicants:

Applications may be submitted by public and private non-profit organizations meeting the provisions described in Internal Revenue Code section 26 USC 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing, and Matching. In the event you do not provide the minimum amount of cost sharing as stipulated in the approved budget, ECA's contribution will be reduced in like proportion.

III.3. Other Eligibility Requirements:

(a) Bureau grant guidelines require that organizations with less than four years experience in conducting international exchanges be limited to $60,000 in Bureau funding. ECA anticipates making two separate awards, in amounts up to $500,000 to support program and administrative costs required to implement this exchange program. Therefore, organizations with less than four years experience in conducting international exchanges are ineligible to apply under this competition. The Bureau encourages applicants to provide maximum levels of cost sharing and funding in support of its programs.

(b) Proposals must demonstrate that an applicant has an established resource base of programming contacts and the ability to keep this resource base continuously updated. This resource base should include but is not limited to thematically related institutions (e.g., film organizations and museums), speakers, thematic specialists, and practitioners in a wide range of professional fields in both private and public sectors.

(c) Technical Eligibility: All proposals must comply with the list of requirements below or they will result in your proposal being declared technically ineligible and given no further consideration in the review process:

— Applicants may only submit one proposal under this open competition. Submission of more than one proposal per applicant under this open competition will render all proposals by the applicant technically ineligible and will not receive further consideration in the review process.

— Proposals for Project 2 (Iraq Museum Professionals Residency program) that contain any other country will be considered technically ineligible, and will not receive further consideration in the review process.

— For this competition, all eligible organizations must demonstrate a minimum of five years' experience successfully conducting international arts exchange programs that involved the exchange of participants, as well as at least four years' experience successfully conducting international programs with the U.S. Government.

— Key U.S. partner institutions and their roles in the project must be identified and letters of support provided in the proposal.

IV. Application and Submission Information

Note: Please read the complete announcement before sending inquiries or submitting proposals. Once the RFGP deadline has passed, Bureau staff may not discuss this competition with applicants until the proposal review process has been completed.

IV.1 Contact Information to Request an Application Package:

Please contact the Cultural Programs Division of the Office of Citizens' Exchanges of the Bureau of Educational and Cultural Affairs, ECA/PE/P/CU, Room 569, U.S. Department of State, SA-44, 301 4th Street, SW., Washington, DC 20547, 202-703-7488, fax: 202-203-7525, ProctorLM@state.gov, to request a Solicitation Package. Please refer to the Funding Opportunity Number ECA/PE/C/CU-09-49 located at the top of this announcement when making your request. Alternatively, an electronic application package may be obtained from grants.gov. Please see section IV.3f for further information.

The Solicitation Package contains the Proposal Submission Instruction (PSI) document which consists of required application forms, and standard guidelines for proposal preparation.

Please specify Susan Cohen and refer to the Funding Opportunity Number ECA/PE/C/CU-09-49 located at the top of this announcement on all other inquiries and correspondence.

IV.2. To Download a Solicitation Package via Internet:

The entire Solicitation Package may be downloaded from the Bureau's Web site at http://exchanges.state.gov/grants/open2.html, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. Please note: Effective January 7, 2009, all applicants for ECA Federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to all Regulations Governing the J Visa

The Bureau of Educational and Cultural Affairs places critically important emphases on the security and proper administration of the Exchange Visitor (J visa) Programs and adherence by award recipients and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements.

ECA/PE/C/CU will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 203-5029, FAX: (202) 453-8640.

Please refer to Solicitation Package for further information.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the `Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3 Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3d.4 Describe your plans for: i.e. Sustainability, overall program management, staffing, coordination with ECA and PAS or any other requirements, etc.

IV.3e. Please take the following information into consideration when preparing your budget:

IV.3e.1 Applicants must submit SF-424A—“Budget Information—Non-Construction Programs” along with a comprehensive budget for the entire program. Budget requests may not exceed $400,000 for project 1 or $500,000 for project 2. There must be a summary budget as well as breakdowns reflecting both administrative and program budgets. Applicants may provide separate sub-budgets for each program component, phase, location, or activity to provide clarification.

IV.3e.2 Allowable costs for the program include the following:

(1) Lodging, per diem, and other expenses related to foreign participation in residency programs;

(2) Design and implementation of residency program (including, as appropriate, staff, administrative expenses, educational expenses, supplies, equipment, production costs for filmmaking project, orientation and de-briefing costs, etc.);

(3) International and domestic travel and transportation;

(4) Other costs related to programs complementary to the residency program, including presentations to public schools, panels, etc.

Please refer to the Solicitation Package for complete budget guidelines and formatting instructions.

IV.3f. Application Deadline and Methods of Submission:

Application Deadline Date: May 12, 2009.

Reference Number: ECA/PE/C/CU-09-49.

Methods of Submission:

Applications may be submitted in one of two ways:

(1) In hard-copy, via a nationally recognized overnight delivery service (i.e., Federal Express, UPS, Airborne Express, or U.S. Postal Service Express Overnight Mail, etc.), or

(2) Electronically through http://www.grants.gov.

Please Note: ECA strongly encourages organizations interested in applying for this competition to submit printed, hard copy applications as outlined in section IV.3f.1., below rather than submitting electronically through Grants.gov. This recommendation is being made as a result of the anticipated high volume of grant proposals that will be submitted via the Grants.gov Web portal as part of the Recovery Act stimulus package. As stated in these RFGPs, ECA bears no responsibility for data errors resulting from transmission or conversion processes for proposals submitted via Grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and nine (9) copies of the application should be sent to: U.S. Department of State, SA-44, Bureau of Educational and Cultural Affairs, Ref.: ECA/PE/C/CU-09-49, Program Management, ECA/EX/PM, Room 534, 301 4th Street, SW., Washington, DC 20547.

Applicants submitting hard-copy applications must also submit the “Executive Summary” and “Proposal Narrative” sections of the proposal in text (.txt) or Microsoft Word format on a PC-formatted disk. The Bureau will provide these files electronically to the appropriate Public Affairs Section(s) at the U.S. Embassy(ies) for its(their) review.

IV.3f.2 Submitting Electronic Applications

Applicants have the option of submitting proposals electronically through Grants.gov (http://www.grants.gov). Complete solicitation packages are available at Grants.gov in the “Find” portion of the system.

Please Note: ECA strongly encourages organizations interested in applying for this competition to submit printed, hard copy applications as outlined in section IV.3f.1. above, rather than submitting electronically through Grants.gov. This recommendation is being made as a result of the anticipated high volume of grant proposals that will be submitted via the Grants.gov Web portal as part of the Recovery Act stimulus package. As stated in these RFGPs, ECA bears no responsibility for data errors resulting from transmission or conversion processes for proposals submitted via Grants.gov.

Please follow the instructions available in the “Get Started” portion of the site (http://www.grants.gov/GetStarted.

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support.

Contact Center Phone: 800-518-4726.

Business Hours: Monday-Friday, 7 a.m.-9 p.m. Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

Optional—IV.3f. You may also state here any limitations on the number of applications that an applicant may submit and make it clear whether the limitation is on the submitting organization, individual program director or both.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria:

Technically eligible applications will be competitively reviewed according to the criteria stated below. These criteria are not rank ordered and all carry equal weight in the proposal evaluation:

1. Program planning: Detailed agenda and relevant work plan should demonstrate substantive undertakings and logistical capacity. Agenda and plan should adhere to the program overview and guidelines described above.

2. Ability to Achieve Program Objectives: Objectives should be reasonable, feasible, and flexible. Proposals should clearly demonstrate how the institution will meet the program's objectives and plan.

3. Support of Diversity: Proposals should demonstrate substantive support of the Bureau's policy on diversity. Achievable and relevant features should be cited in both program administration (selection of participants, program venue and program evaluation) and program content (orientation and wrap-up sessions, program meetings, resource materials and follow-up activities).

4. Institutional Capacity: Proposed personnel and institutional resources should be adequate and appropriate to achieve the program or project's goals.

5. Institution's Record/Ability: Proposals should demonstrate an institutional record of successful exchange programs, including responsible fiscal management and full compliance with all reporting requirements for past Bureau awards (grants or cooperative agreements) as determined by Bureau Grants Staff. The Bureau will consider the past performance of prior recipients and the demonstrated potential of new applicants.

6. Project Evaluation: Proposals should include a plan to evaluate the activity's success, both as the activities unfold and at the end of the program. A draft survey questionnaire or other technique plus description of a methodology to use to link outcomes to original project objectives is recommended.

7. Cost-effectiveness/Cost-sharing: The overhead and administrative components of the proposal, including salaries and honoraria, should be kept as low as possible. All other items should be necessary and appropriate.

Proposals should maximize cost-sharing through other private sector support as well as institutional direct funding contributions.

VI. Award Administration Information

VI.1a. Award Notices:

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.1b The following additional requirements apply to this project:

A critical component of current U.S. government Iran policy is the support for indigenous Iranian voices. The State Department has made the awarding of grants for this purpose a key component of its Iran policy. As a condition of licensing these activities, the Office of Foreign Assets Control (OFAC) has requested the Department of State to follow certain procedures to effectuate the goals of Sections 481(b), 531(a), 571, 582, and 635(b) of the Foreign Assistance Act of 1961 (as amended); 18 U.S.C. §§ 2339A and 2339B; Executive Order 13224; and Homeland Security Presidential Directive 6. These licensing conditions mandate that the Department conduct a vetting of potential Iran grantees and sub-grantees for counter-terrorism purposes. To conduct this vetting the Department will collect information from grantees and sub-grantees regarding the identity and background of their key employees and Boards of Directors.

Note: To assure that planning for the inclusion of Iran complies with requirements, please contact Jill Staggs—Iran Coordinator at 202-203-7500 or StaggsJJ@state.gov, for additional information.

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Jill Staggs—at 202-203-7500 or StaggsJJ@state.gov for additional information.

Special Provision for Performance in a Designated Combat Area (Currently Iraq and Afghanistan) (December 2008)

All Recipient personnel deploying to areas of combat operations, as designated by the Secretary of Defense (currently Iraq and Afghanistan), under assistance awards over $100,000 or performance over 14 days must register in the Department of Defense maintained Synchronized Pre-deployment and Operational Tracker (SPOT) system. Recipients of Federal assistance awards shall register in SPOT before deployment, or if already in the designated operational area, register upon becoming an employee under the assistance award, and maintain current data in SPOT. Information on how to register in SPOT will be available from your Grants Officer or Grants Officer Representative during the final negotiation and approval stages in the Federal assistance awards process. Recipients of Federal assistance awards are advised that adherence to this policy and procedure will be a requirement of all final Federal assistance awards issued by ECA.

Recipient performance may require the use of armed private security personnel. To the extent that such private security contractors (PSCs) are required, grantees are required to ensure they adhere to Chief of Mission (COM) policies and procedures regarding the operation, oversight, and accountability of PSCs.

VI.2 Administrative and National Policy Requirements:

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information:

http://www.whitehouse.gov/omb/grants.

http://fa.statebuy.state.gov.

VI.3. Reporting Requirements: You must provide ECA with a hard copy original plus nine (9) copies of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) A SF-PPR, “Performance Progress Report” Cover Sheet with all program reports.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

Program Data Requirements:

Award recipients will be required to maintain specific data on program participants and activities in an electronically accessible database format that can be shared with the Bureau as required. As a minimum, the data must include the following:

(1) Name, address, contact information, and biographic sketch of all persons who travel internationally on funds provided by the agreement or who benefit from the award funding but do not travel.

(2) Itineraries of international and domestic travel, providing dates of travel and cities in which any exchange experiences take place. Final schedules for in-country and U.S. activities must be received by the ECA Program Officer at least three work days prior to the official opening of the activity.

VII. Agency Contacts

For questions about this announcement, contact: Susan Cohen, Cultural Programs Division, ECA/PE/C/CU, Room 568, ECA/PE/C/CU-09-49, U.S. Department of State, SA-44, 301 4th Street, SW., Washington, DC 20547, 202-203-7509, fax: 202-203-7525, CohenSL@state.gov.

All correspondence with the Bureau concerning this RFGP should reference the above title and number ECA/PE/C/CU-09-49.

Please read the complete announcement before sending inquiries or submitting proposals. Once the RFGP deadline has passed, Bureau staff may not discuss this competition with applicants until the proposal review process has been completed.

VIII. Other Information

Notice:

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 31, 2009.
C. Miller Crouch,
Acting Assistant Secretary for Educational and Cultural Affairs, Department of State.

[FR Doc. E9-7849 Filed 4-6-09; 8:45 am]

BILLING CODE 4710-05-P